DEPARTMENT OF LABOR

Employment and Training Administration

[TA-W-61,708]

Sun Chemical Corporation, Winston-Salem, NC; Notice of Termination of Investigation

Pursuant to section 221 of the Trade Act of 1974, as amended, an investigation was initiated on June 19, 2007, in response to a worker petition filed by the State Workforce Employment Analyst on behalf of workers at Sun Chemical Corporation, Winston-Salem, North Carolina.

The Department issued a negative determination (TA-W-59,818) applicable to the petitioning group of workers on September 28, 2006. No new information or change in circumstances is evident which would result in a reversal of the Department's previous determination. Consequently, further investigation would serve no purpose, and the investigation has been terminated.

Signed in Washington, DC, this 13th day of August, 2007.
Richard Church,
Certifying Officer, Division of Trade Adjustment Assistance.

[FR Doc. E7-16889 Filed 8-24-07; 8:45 am]

BILLING CODE 4510-FN-P